Executive Order 14308 of June 12, 2025

Empowering Commonsense Wildfire Prevention and Response

By the authority vested in me as President by the Constitution and the laws of the United States of America, it is hereby ordered:

Section 1. Purpose. The devastation of the January 2025 Los Angeles wildfires shocked the American people and highlighted the catastrophic consequences when State and local governments are unable to quickly respond to such disasters. In too many cases, including in California, a slow and inadequate response to wildfires is a direct result of reckless mismanagement and lack of preparedness. Wildfires threaten every region, yet many local government entities continue to disregard commonsense preventative measures. Firefighters across the country are forced to rely on outdated technology and face challenges in quickly responding to wildfires because of unnecessary regulation and bureaucracy.

The Federal Government can empower State and local leaders by streamlining Federal wildfire capabilities to improve their effectiveness and promoting commonsense, technology-enabled local strategies for land management and wildfire response and mitigation.

Sec. 2. Streamlining Federal Wildland Fire Governance. Within 90 days of the date of this order, the Secretary of the Interior and the Secretary of Agriculture shall, to the maximum degree practicable and consistent with applicable law, consolidate their wildland fire programs to achieve the most efficient and effective use of wildland fire offices, coordinating bodies, programs, budgets, procurement processes, and research and, as necessary, recommend additional measures to advance this objective.

Sec. 3. Encouraging Local Wildfire Preparedness and Response. (a) Within 90 days of the date of this order, the Secretary of the Interior and the Secretary of Agriculture, in consultation with the Secretary of Homeland Security, shall:

(i) expand and strengthen the use of partnerships, agreements, compacts, and mutual aid capabilities that empower Federal, State, local, tribal, and community-driven land management that reduces wildfire risk and improves wildfire response, including on public lands; and

(ii) develop and expand the use of other measures to incentivize responsible land management and wildfire prevention, mitigation, and response measures at the State and local levels.

(b) Within 180 days of the date of this order, the Secretary of the Interior and the Secretary of Agriculture, in consultation with the Secretary of Commerce and the heads of executive departments and agencies (agencies) represented at the National Interagency Fire Center, shall:

(i) develop a comprehensive technology roadmap, in consultation with the Director of the Office of Science and Technology Policy (OSTP), to increase wildfire firefighting capabilities at the State and local levels, including through artificial intelligence, data sharing, innovative modeling and mapping capabilities, and technology to identify wildland fire ignitions and weather forecasts to inform response and evacuation; and

(ii) promote the use of a risk-informed approach, as consistent with Executive Order 14239 of March 18, 2025 (Achieving Efficiency Through State and Local Preparedness), to develop new policies that remove barriers to preventing and responding to wildfires, including through year-round response readiness, better forest health, and activities outlined in Executive Order 14225 of March 1, 2025 (Immediate Expansion of American Timber Production).

Sec. 4. Strengthening Wildfire Mitigation. Within 90 days of the date of this order:

(a) The Administrator of the Environmental Protection Agency shall consider modifying or rescinding, as consistent with applicable law, Federal rules or policies that impede the use of appropriate, preventative prescribed fires.

(b) The Secretary of Agriculture and the Administrator of the Environmental Protection Agency, in consultation with the Secretary of the Interior, shall consider modifying or rescinding, as consistent with applicable law, Federal rules or policies hindering the appropriate use of fire retardant to fight wildfires.

(c) The Secretary of Agriculture, in consultation with the Secretary of the Interior, shall consider promoting, assisting, and facilitating, as consistent with applicable law, innovative uses of woody biomass and forest products to reduce fuel loads in areas at risk of wildfires.

(d) The Secretary of the Interior, the Secretary of Agriculture, the Secretary of Energy, and the Federal Energy Regulatory Commission shall consider initiating rulemaking proceedings to establish, as consistent with applicable law, best practices to reduce the risk of wildfire ignition from the bulk-power system without increasing costs for electric-power end users, including through methods such as vegetation management, the removal of forest-hazardous fuels along transmission lines, improved engineering approaches, and safer operational practices.

(e) The Attorney General, in consultation with the Secretary of Agriculture and the Secretary of the Interior, shall review pending and proposed wildfire-related litigation involving electrical utility companies to ensure the Department's positions and proposed resolutions in such matters advance the wildfire prevention and mitigation efforts identified in this order.

Sec. 5. Modernizing Wildfire Prevention and Response. (a) Within 120 days of the date of this order, the Secretary of Defense, in consultation with the Director of OSTP, the Assistant to the President for National Security Affairs, and the heads of relevant agencies, shall, as appropriate, identify, declassify, and make publicly available historical satellite datasets that will advance wildfire prevention and response and improve wildfire prediction and evaluation models.

(b) Within 180 days of the date of this order, the Secretary of the Interior and the Secretary of Agriculture, in consultation with the Secretary of Commerce and the heads of agencies represented at the National Interagency Fire Center, shall:

(i) Identify rules that impede wildfire prevention, detection, or response and consider eliminating or revising those rules, as consistent with applicable law. This consideration and any resulting rulemaking proceedings shall be reflected in the Fall 2025 Unified Regulatory Agenda.

(ii) Develop performance metrics for wildfire response, including metrics related to average response times, annual fuels treatments, safety and cost effectiveness, and other subjects, as appropriate for inclusion in strategic and annual performance plans.

(c) Within 210 days of the date of this order, the Secretary of Defense shall evaluate and, as appropriate and consistent with applicable law, prioritize the sale of excess aircraft and aircraft parts to support wildfire mitigation and response.

Sec. 6. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

(d) The costs for publication of this order shall be borne by the Department of Agriculture and the Department of the Interior in equal shares.

THE WHITE HOUSE,

June 12, 2025.

[FR Doc. 2025-11358

Filed 6-17-25; 11:15 am]

Billing code 3410-18-P